DEPARTMENT OF LABOR

Employment and Training Administration

[TA-W-41,684]

Supreme Tool and Die Company, Fenton, MO; Notice of Termination of Investigation

Pursuant to Section 221 of the Trade Act of 1974, an investigation was initiated on June 17, 2002 in response to a worker petition which was filed on behalf of workers at Supreme Tool and Die Company, Fenton, Missouri.

The petitioner has requested that the petition be withdrawn. Consequently, further investigation in this case would serve no purpose, and the investigation is terminated.

Signed in Washington, DC this 28th day of August, 2002.
Linda G. Poole,
Certifying Officer, Division of Trade Adjustment Assistance.

[FR Doc. 02-22960 Filed 9-9-02; 8:45 am]

BILLING CODE 4510-30-P